DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 3, 2010.

Interested persons are invited to submit written comments regarding the subject matter of the investigations to the Director, Division of Trade Adjustment Assistance, at the address shown below, not later than May 3, 2010. The petitions filed in this case are available for inspection at the Division of Trade Adjustment Assistance, Employment and Training Administration, U.S. Department of Labor, Room N-5428, 200 Constitution Avenue, NW., Washington, DC 20210.

Signed at Washington, DC, this 16th day of April 2010.
Elliott Kushner,
Certifying Officer, Division of Trade Adjustment Assistance.

Appendix
[TAA petitions instituted between 3/22/10 and 3/26/10]
TA-W | Subject firm (petitioners) | Location | Date of institution | Date of petition
73753 | BJI Employee Services, Inc. (wkrs) | Liberty, NC | 03/22/10 | 03/15/10
73754 | Anderson Logistics (wkrs) | Birch Run, MI | 03/22/10 | 03/19/10
73755 | International Paper Company (State) | Cedarburg, WI | 03/22/10 | 03/19/10
73756 | Progressive Furniture, Inc. (Comp) | Claremont, NC | 03/22/10 | 03/19/10
73757 | Price Waterhouse Coopers, LLP (wkrs) | Los Angeles, CA | 03/22/10 | 03/12/10
73758 | Bluesope Buildings (wkrs) | Laurinsburg, NC | 03/22/10 | 03/19/10
73759 | ESKCO Inc. (Comp) | Dayton, OH | 03/22/10 | 03/17/10
73760 | Propex Operating Company, LLC (wkrs) | Ringgold, GA | 03/22/10 | 03/19/10
73761 | Kmart (State) | Milford, OH | 03/22/10 | 03/19/10
73762 | Rain Bird Corporation, Arizona Molding Division (Comp) | Tucson, AR | 03/22/10 | 03/18/10
73763 | Leed Foundry (union) | Saint Claire, PA | 03/22/10 | 03/19/10
73764 | Amazon (state) | Seattle, WA | 03/23/10 | 03/22/10
73765 | Wooden Creations, Inc. (wkrs) | Martinsville, VA | 03/23/10 | 12/30/09
73766 | JT Sports (wkrs) | Neosho, MO | 03/23/10 | 02/26/10
73767 | Toyoda Gosei (wkrs) | Troy, MI | 03/23/10 | 03/12/10
73768 | LIM Corporate Office (comp) | Englewood, CO | 03/23/10 | 03/22/10
73769 | Flexsteel Industries, Inc. (union) | Dubugue, IA | 03/23/10 | 03/22/10
73770 | Chrysler South Plant (union) | Fenton, MO | 03/23/10 | 03/22/10
73771 | Technicolor Video of Michigan (state) | Detroit, MI | 03/23/10 | 03/01/10
73772 | JC Penny (wkrs) | Waterford, MI | 03/23/10 | 03/03/10
73773 | V&S Detroit Galvanizing, LLC (state) | Redford, MI | 03/23/10 | 01/26/10
73774 | Sesame Solutions, LLC (wkrs) | Paris, TX | 03/24/10 | 03/23/10
73775 | Eli Lilly & Company (wkrs) | Indianapolis, IN | 03/24/10 | 03/22/10
73776 | Workshops of G.E. Henn Pottery (comp) | New Waterford, OH | 03/24/10 | 03/23/10
73777 | Accurate Machine & Tool LLC (comp) | Raleigh, NC | 03/24/10 | 03/23/10
73778 | Securitas Security working at DPH Holding Corps (wkrs) | Tanner, AL | 03/24/10 | 03/15/10
73779 | Portland Title Group (wkrs) | Beaverton, OR | 03/24/10 | 03/16/10
73780 | Toyota Tsusho America Inc. (comp) | Memphis, TN | 03/24/10 | 03/22/10
73781 | Itasca-Bemidji, Inc. (comp) | Bemidji, MN | 03/24/10 | 03/22/10
73782 | Metalsa Structural Projects, Inc. (comp) | Stockton, CA | 03/24/10 | 03/22/10
73783 | Scot Industries (wkrs) | Hughes Springs, TX | 03/24/10 | 03/23/10
73784 | Ferrania USA, Inc. (comp) | St. Paul, MN | 03/24/10 | 03/22/10
73785 | Ferrania USA, Inc. (Union) | Murron, OH | 03/24/10 | 03/22/10
73786 | Ferrania USA, Inc. (Union) | Lake Worth, FL | 03/24/10 | 03/22/10
73787 | Don Cacciola (Union) | Eagan, MN | 03/24/10 | 03/22/10
73788 | Cranston Print Works Company (Company) | Cranston, RI | 03/25/10 | 03/10/10
73789 | Application Development Systems (Workers) | Warren, MI | 03/25/10 | 03/23/10
73790 | MeadWestVaco (Workers) | Richmond, VA | 03/25/10 | 03/19/10
73791 | Burlington Technologies (Company) | Burlington, NC | 03/25/10 | 03/17/10
73792 | Kenkel Corporation (Union) | Buffalo, NY | 03/25/10 | 03/17/10
73793 | TCM America, Inc. (Company) | West Columbia, SC | 03/26/10 | 03/11/10
73794 | TCM America, Inc. (Company) | Houston, TX | 03/26/10 | 03/11/10
73795 | TCM America, Inc. (Company) | Swedesboro, NJ | 03/26/10 | 03/11/10

[FR Doc. 2010-9480 Filed 4-22-10; 8:45 am]

BILLING CODE 4510-FN-P